DEPARTMENT OF AGRICULTURE

Submission for OMB Review; Comment Request

February 8, 2022.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by March 14, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Forest Industries Data Collection System.

OMB Control Number: 0596-0010.

Summary of Collection: The Forest and Range Renewable Resources Planning Act of 1974 and the Forest and Rangeland Renewable Resources Research Act of 1978 require the Forest Service to evaluate trends in the use of roundwood (logs in whole or chipped form), to forecast anticipated levels of roundwood use and availability, and to analyze changes in the harvest of these resources from the United States' forests. This data collection effort has been conducted since the mid-1970s, with various adjustments through time to accommodate new questions, sampling approaches, and/or data collection needs. Data collection is performed by Forest Service personnel and cooperators from State natural resource agencies and universities. Currently, the data collection gathers information from two groups: Primary wood industry and logging operations.

Need and Use of the Information: This information collection will generate scientifically based, statistically reliable, up-to-date information about utilization of timber resources of the United States. Our testing efforts will allow us to improve the quality of data obtained. The results of these efforts contribute to the availability of reliable information on timber resource use, facilitating more complete and accurate assessments of forest resources at state, regional, and national levels.

Description of Respondents: Business or other for-profit; Not-for-profit institutions.

Number of Respondents: 5,768.

Frequency of Responses: Reporting: On occasion; Annually.

Total Burden Hours: 2,062.

Forest Service

Title: Airplane Pilot Qualifications and Approval Record, Helicopter Pilot Qualifications and Approval Record, Airplane Data Record, and Helicopter Data Record.

OMB Control Number: 0596-0015.

Summary of Collection: The Forest Service contracts with approximately 400 vendors a year for commercial aviation services utilized in resource protection and project management. In recent years, the total annual use of contract aircraft and pilots has exceeded 80,000 hours. In order to maintain an acceptable level of safety, preparedness, and cost-effectiveness in aviation operations, Forest Service contracts include rigorous qualifications for pilots and specific condition, equipment, and performance requirements for aircraft as aviation operations are conducted under extremely adverse conditions of weather, terrain, turbulence, smoke reduced visibility, minimally improved landing areas, and congested airspace around wildfires.

Need and Use of the Information: Without the collected information, Forest Service Pilot and Aircraft Inspectors and Forest Service Contracting Officers cannot determine whether contracted pilots and aircraft meet detailed qualification, equipment, and condition requirements essential to safe and effective accomplishment of Forest Service-specified flying missions. Without a reasonable basis to determine pilot qualifications and aircraft capability, Forest Service employees would be exposed to hazardous conditions. Data collected documents approval of contract pilots and aircraft for specific Forest Service aviation special missions. Information will be collected and reviewed by Pilot and Aircraft Inspectors to determine whether aircraft and/or pilot(s) meet all agency requirements in accordance with Forest Service Handbook (FSH) 5709.16, chapter 10, sections 15 and 16. Forest Service pilot and aircraft inspectors maintain collected information in Forest Service regional and national offices. The Forest Service, at times, shares the information with the Department of the Interior, Office of Aviation Services, as each organization accepts contract inspections conducted by the other.

Description of Respondents: Business or other for-profit; State, Local or Tribal Government.

Number of Respondents: 2,135.

Frequency of Responses: Reporting: Annually.

Total Burden Hours: 3,866.

Forest Service

Title: Understanding Value Trade-Offs Regarding Fire Hazard Reduction Programs in the Wildland-Urban Interface.

OMB Control Number: 0596-0189.

Summary of Collection: The Healthy Forests Restoration Act (Pub. L. 108-148), improves the ability of the Secretary of Agriculture and the Secretary of the Interior to plan and conduct hazardous fuels reduction projects on National Forest System and Bureau of Land Management Lands. The Forest Service, Bureau of Land Management, Bureau of Indian Affairs, National Park Service, Fish and Wildlife Service, and many State agencies with fire protection responsibilities have undertaken a very ambitious and expensive forest fuels reduction program. The Forest Service (FS) and university researchers will contact recipients of a phone/mail questionnaire to help forest and fire managers understand value trade-offs regarding fire hazard reduction programs in the wildland-urban interface.

Need and Use of the Information: Forest Service and university researchers will collect information from members of the public via a brief phone questionnaire followed by the respondent's choice of a mail questionnaire or an online questionnaire to help forest and fire managers understand value trade-offs regarding fire hazard reduction programs in the wildland-urban interface. Researchers will evaluate the responses of Florida, New Mexico, Oregon, and Texas residents to different scenarios related to fire-hazard reduction programs, determine how effective residents think the programs are, and calculate how much residents would be willing to pay to implement the alternatives presented to them. This information will help researchers provide better information to natural resource, forest, and fire managers when they are contemplating the type of fire-hazard reduction program to implement to achieve forestland management planning objectives.

Description of Respondents: Individuals or households.

Number of Respondents: 1,675.

Frequency of Responses: Reporting: Once.

Total Burden Hours: 271.

Forest Service

Title: Environmental Justice and the Urban Forest in Atlanta, GA.

OMB Control Number: 0596-0237.

Summary of Collection: Environmental justice is defined by the Environmental Protection Agency as the “fair treatment and meaningful involvement of all people. . .with respect to the development, implementation, and enforcement of environmental laws, regulations and policies.” This information collection addresses environmental justice in urban settings. Cities are often (though not always) places of particular concern for environmental justice inquires due to the greater concentration of environmental pollutants and human populations. The following statutes and regulations are relevant to this request for information collection: Executive Order 12898, Memorandum of Understanding on Environmental Justice and Executive Order 12898, National Environmental Policy Act of 1969 (Pub. L. 91-190), the Civil Rights Act of 1964 (Pub. L. 88-352).

Need and Use of the Information: The study provides an integrated approach to assessing residents' relationship to the urban forest. The collection addresses environmental justice from the perspective of urban trees; and how this resource may contribute to environmental justice in a given community or neighborhood. The agency will use this information to determine whether their programs, policies, and activities have disproportionately high and adverse human health or environmental effects on minority populations and low-income populations. If the information is not collected, efforts at the federal level to evaluate environmental justice will remain limited to methodologies that reproduce incomplete assessments of environmental justice.

Description of Respondents: Individuals or households.

Number of Respondents: 232.

Frequency of Responses: Reporting: Other (one time).

Total Burden Hours:

Forest Service

Title: Pesticide-Use Proposal (PUP) Form.

OMB Control Number: 0596-0241.

Summary of Collection: The Forest Service (FS) is authorized under the Federal Insecticide, Fungicide, and Rodenticide Act, as amended (7 U.S.C. 136, and 40 CFR 171; the Cooperative Forestry Assistance Act of 1978 (16 U.S.C. 2101) as amended by the Food, Agriculture, Conservation, and Trade Act of 1990 (7 U.S.C. 1421), and 36 CFR 219; and the National Environmental Policy Act 42 CFR 4321), and 36 CFR 220 to collect information on proposed use of pesticides on lands administered by FS to safe guard natural resources and human health.

Need and Use of the Information: FS will use form FS-2100-2 to collect pesticide project information from entities for application of pesticides upon FS administered lands within rights-of-way easements, permitted lands, and under similar circumstances. Categories of information requested are descriptive of type, amount, and location of applications, as well as identification of qualifying credentials of those performing the work. Proposals will be evaluated by FS pesticide use coordinators and other administrative personnel to safeguard human health and ecological protection consistent with FS land use management programs. Without the ability to collect the details of proposed projects from outside parties, the FS would not be able to make appropriately informed decisions concerning land stewardship and necessary ecological and human health safeguards.

Description of Respondents: Individuals and households, Businesses and Organizations, and State, Local and Tribal Governments.

Number of Respondents: 200.

Frequency of Responses: Reporting: One time.

Total Burden Hours: 400.

Forest Service

Title: Post-Hurricane Research and Assessment of Agriculture, Forestry, and Rural Communities in the U.S. Caribbean.

OMB Control Number: 0596-0246.

Summary of Collection: The Public Lands Corps (PLC) is a work and education program involving the nation's land management agencies, conservation and service corps, and environmental organizations that contribute to the rehabilitation, restoration, and repair of public lands resources and infrastructure. PLC provides opportunities for community and national service, work experience, and training to young people who are unemployed or underemployed. The law authorizing this program is 16 U.S.C. 1721-1726, Chapter 37—Public Lands Corps and Resources Assistants Program (Public Lands Corps Healthy Forest Restoration Act of 2005 [Pub. L. 109-154]) as amended in 1993, hereafter referred to as “the Act.”

Need and Use of the Information: This information collection request establishes policies and procedures for the implementation of the Public Lands Corps Participant Tracking Sheet to ensure uniform collection of information regarding tracking and monitoring participant engagement to determine the completion of requirements for non-competitive hiring eligibility as defined in the Act. Data collected through the Public Lands Corps Participant Tracking Sheet will allow the Forest Service (FS) and other Federal Land Management Agencies who sponsor PLC programs to support collaborating partners who manage eligible participants and their participation in PLC projects. If the FS is unable to collect data regarding PLC participants, it and other Federal Land Management Agencies would be unable to participate in a legally mandated program as outlined in the Act.

Description of Respondents: Non-profit Organizations and Non-Federal Government entities.

Number of Respondents: 400.

Frequency of Responses: Reporting; Quarterly.

Total Burden Hours: 131.

Forest Service

Title: Public Lands Corps Participant Tracking Sheet.

OMB Control Number: 0596-0247.

Summary of Collection: The Public Lands Corps (PLC) is a work and education program involving the nation's land management agencies, conservation and service corps, and environmental organizations that contribute to the rehabilitation, restoration, and repair of public lands resources and infrastructure. PLC provides opportunities for community and national service, work experience, and training to young people who are unemployed or underemployed. The law authorizing this program is 16 U.S.C. 1721-1726, Chapter 37—Public Lands Corps and Resources Assistants Program (Public Lands Corps Healthy Forest Restoration Act of 2005 [Pub. L. 109-154]) as amended in 1993, hereafter referred to as “the Act.”

Need and Use of the Information: This information collection request establishes policies and procedures for the implementation of the Public Lands Corps Participant Tracking Sheet to ensure uniform collection of information regarding tracking and monitoring participant engagement to determine the completion of requirements for non-competitive hiring eligibility as defined in the Act. Data collected through the Public Lands Corps Participant Tracking Sheet will allow the Forest Service (FS) and other Federal Land Management Agencies who sponsor PLC programs to support collaborating partners who manage eligible participants and their participation in PLC projects. If the FS is unable to collect data regarding PLC participants, it and other Federal Land Management Agencies would be unable to participate in a legally mandated program as outlined in the Act.

Description of Respondents: Non-profit Organizations and Non-Federal Government entities.

Number of Respondents: 500.

Frequency of Responses: Reporting; Semi-annually.

Total Burden Hours: 290.

Levi S. Harrell,
Departmental Information Collection Clearance Officer.

[FR Doc. 2022-02984 Filed 2-10-22; 8:45 am]

BILLING CODE 3411-15-P